DEPARTMENT OF ENERGY

Federal Energy Regulatory Commission

Notice of Institution of Section 206 Proceeding and Refund Effective Date

| Docket Nos.
ISO New England Inc | EL19-90-000
PJM Interconnection, L.L.C | EL19-91-000
Southwest Power Pool, Inc | EL19-92-000

On October 17, 2019, the Commission issued an order in Docket Nos. EL19-90-000, EL19-91-000, and EL19-92-000, pursuant to section 206 of the Federal Power Act (FPA), 16 U.S.C. 824e (2018), instituting proceedings to consider whether the above-captioned entities may be implementing exemptions for immediate need reliability projects that the Commission permitted to Order No. 1000's ¹ requirement to eliminate provisions in Commission-jurisdictional tariffs and agreements that establish a federal right of first refusal for an incumbent transmission developer with respect to transmission facilities selected in a regional transmission plan for purposes of cost allocation in a manner that is inconsistent than what the Commission directed, and therefore may be unjust and unreasonable, unduly preferential and discriminatory. ISO New England Inc., et al., 169 FERC 61,054 (2019).

¹ Transmission Planning and Cost Allocation by Transmission Owning and Operating Public Utilities, Order No. 1000, 136 FERC 61,051 (2011), order on reh'g, Order No. 1000-A, 139 FERC 61,132, order on reh'g and clarification, Order No. 1000-B, 141 FERC 61,044 (2012), aff'd sub nom. S.C. Pub. Serv. Auth. v. FERC, 762 F.3d 41 (D.C. Cir. 2014).

The refund effective date in Docket Nos. EL19-90-000, EL19-91-000, and EL19-92-000, established pursuant to section 206(b) of the FPA, will be the date of publication of this notice in the Federal Register.

Any interested person desiring to be heard in Docket Nos. EL19-90-000, EL19-91-000, and EL19-92-000 must file a notice of intervention or motion to intervene, as appropriate, with the Federal Energy Regulatory Commission, 888 First Street NE, Washington, DC 20426, in accordance with Rule 214 of the Commission's Rules of Practice and Procedure, 18 CFR 385.214 (2019), within 21 days of the date of issuance of the order.

Dated: October 18, 2019.
Kimberly D. Bose,
Secretary.

[FR Doc. 2019-23489 Filed 10-25-19; 8:45 am]

BILLING CODE 6717-01-P